NATIONAL SCIENCE FOUNDATION

Agency Information Collection Activities: Comment Request; Survey of Doctorate Recipients

AGENCY: National Center for Science and Engineering Statistics, National Science Foundation.

ACTION: Notice.

SUMMARY: The National Center for Science and Engineering Statistics (NCSES) within the National Science Foundation (NSF) is announcing plans to request renewal of the Survey of Doctorate Recipients (SDR)(OMB Control Number 3145-0020). In accordance with the requirements of the Paperwork Reduction Act of 1995, NCSES is providing opportunity for public comment on this action. After obtaining and considering public comment, NCSES will prepare the submission requesting that OMB approve clearance of this collection for three years.

DATES: Written comments on this notice must be received by February 3, 2025 to be assured of consideration. Comments received after that date will be considered to the extent practicable. Send comments to the address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339 between 8:00 a.m. and 8:00 p.m., Eastern Time, Monday through Friday.

SUPPLEMENTARY INFORMATION:

Title of Collection: 2025 Survey of Doctorate Recipients.

OMB Control Number: 3145-0020.

Expiration Date of Current Approval: July 31, 2026.

Type of Request: Intent to seek approval to extend an information collection for three years.

Abstract: Established within the NSF by the America COMPETES Reauthorization Act of 2010 section 505, codified in the National Science Foundation Act of 1950, as amended, the National Center for Science and Engineering Statistics (NCSES) serves as a central federal clearinghouse for the collection, interpretation, analysis, and dissemination of objective data on science, engineering, technology, and research and development for use by practitioners, researchers, policymakers, and the public.

NCSES is the primary sponsor of the Survey of Doctorate Recipients (SDR); the National Institutes of Health (NIH) serves as a co-sponsor. The SDR has been conducted biennially since 1973 and is a longitudinal survey. The 2025 SDR will consist of a sample of individuals under 76 years of age who have earned a research doctoral degree in a science, engineering, or health (SEH) field from a U.S. academic institution. The purpose of this panel survey is to collect data to provide national estimates on the doctoral science and engineering workforce and changes in their employment, education, and demographic characteristics. NCSES uses these data to prepare congressionally mandated reports (explained below). Government agencies and academic researchers use SDR data and publications to make planning decisions regarding science and engineering research, training, and employment opportunities. Employers also use the SDR to understand trends in employment sectors, industry types, and salary. Students who want to learn about the relationship between graduate education and careers often obtain valuable information from the SDR. Data and publications from the SDR are available to the public on the NCSES website: https://ncses.nsf.gov/surveys/doctorate-recipients/. The first SDR longitudinal data products were released in 2022 and are available here: Survey of Doctorate Recipients: https://ncses.nsf.gov/pubs/nsf22327.

The SDR will collect data by web survey and computer-assisted telephone interviews beginning in June 2025. The survey will be collected in conformance with the Confidential Information Protection and Statistical Efficiency Act (CIPSEA) of 2018 and the individual's response to the survey is voluntary. NCSES will ensure that all information collected will be kept strictly confidential and will be used only for statistical purposes.

Use of the Information: NCSES uses the information from the SDR to prepare two congressionally mandated reports: Diversity and STEM: Women, Minorities, and Persons with Disabilities and Science and Engineering Indicators. NCSES publishes statistics from the SDR in additional reports, primarily in the biennial series, Characteristics of Scientists and Engineers with U.S. Doctorates. As with prior SDR data collections, a cross-sectional public release file of collected data designed to protect respondent confidentiality will be made available to researchers on the NCSES website: https://ncses.nsf.gov/explore-data/microdata.

Expected Respondents: The SDR sample is drawn using the Survey of Earned Doctorates (SED) as a frame. The SDR uses a fixed panel design with a sample of new doctoral graduates added to the panel in each biennial survey cycle. For the 2025 SDR, a statistical sample of approximately 116,000 individuals with U.S. earned doctorates in science, engineering, or health will be contacted. The sample consists of all eligible cases from the previous cycle (106,000) after removing cases that have never responded or have chronically not responded. The 2025 sample will also include 10,000 new doctoral graduates who received their U.S. doctorate between July 2021 and June 2023. Across the full sample, NCSES estimates approximately 88% of individuals will reside in the U.S. and the remaining 12% will reside abroad.

Estimate of Burden: NCSES expects the overall 2025 SDR response rate to be approximately 70 percent. The amount of time to complete the questionnaire may vary depending on an individual's circumstances; however, based on 2023 SDR completion times, NCSES estimates an average completion time of approximately 21 minutes. NCSES estimates that the average annual burden for the 2025 survey cycle over the course of the three-year OMB clearance period will be no more than 9,474 hours [(116,000 respondents × 70% response × 21 minutes)/60 minutes/3 years].

Comments: Comments are invited on (a) whether the proposed collection of information is necessary for the proper performance of the functions of NCSES, including whether the information shall have practical utility; (b) the accuracy of NCSES's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: December 2, 2024.
Suzanne H. Plimpton,
Reports Clearance Officer, National Science Foundation.

[FR Doc. 2024-28441 Filed 12-4-24; 8:45 am]

BILLING CODE 7555-01-P